DEPARTMENT OF ENERGY

Federal Energy Regulatory Commission

[Project No. 1988-104]

Pacific Gas & Electric Company; Notice of Intent To Prepare an Environmental Assessment

On November 8, 2024, Pacific Gas & Electric Company filed an application for a temporary variance from Article 402 for the Haas-Kings Hydroelectric Project No. 1988. The project is located on the North Fork Kings River in Fresno County, California. The project does occupy Federal lands.

The licensee requests a temporary variance of the release requirements under Article 402 that require it, in part, to release from the Kings penstock into Dinkey Creek a minimum flow in dry water years of 15 cubic feet per second (cfs), and from December 1 through May 31 in wet or normal water year types, as measured at gaging station the discharge point (KI-31), and to ensure a minimum of 25 cfs in the North Fork Kings River downstream of Dinkey Creek. With the variance, the licensee proposes to eliminate the 15 cfs supplemental flow releases from January 6 through May 31, 2025, to dewater the Kings River tunnel and penstock to enable the replacement and testing of a turbine shut-off valve. The licensee states that natural flows will still be present in Dinkey Creek through this time and that it will ensure the minimum requirement of 25 cfs in the North Fork Kings River will be maintained during the variance period.

The Commission filed the notice of application for filing, soliciting comments, motions to intervene, and protests for this variance request on December 16, 2024. The public comment period will close on January 15, 2025.

This notice identifies Commission staff's intention to prepare an environmental assessment (EA) for the project.¹ Commission staff plans to issue an EA by February 28, 2025. Revisions to the schedule may be made as appropriate.

¹ In accordance with the Council on Environmental Quality's regulations, the unique identification number for documents relating to this environmental review is EAXX-019-20-000-1735547792. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Katherine Schmidt at (415) 369-3348 or katherine.schmidt@ferc.gov.

Dated: January 6, 2025.
Debbie-Anne A. Reese,
Secretary.

[FR Doc. 2025-00519 Filed 1-13-25; 8:45 am]

BILLING CODE 6717-01-P